DEPARTMENT OF DEFENSE

Office of the Secretary

[Transmittal Nos. 15-02]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-02 with attached transmittal and policy justification.

Dated: March 23, 2015.
Aaron Siegel,
Alternate OSD Federal Register Liaison Officer, Department of Defense.

Transmittal No. 15-02

Notice of Proposed Issuance of letter of Offer Pursuant to Section 36(b)(1) Of the Arms Export Control Act, as amended

(i) Prospective Purchaser: Jordan

(ii) Total Estimated Value:

Major Defense Equipment * | $ 0 million.
Other | $ 80 million.
Total | $ 80 million.
* As defined in Section 47(6) of the Arms Export Control Act.

(iii) Description and Quantity or Quantities of Articles or Services under Consideration for Purchase: two 35 Meter Coastal Patrol Boats with two MSI Defence Systems LTD SEAHAWK A2 DS30M-30mm Gun Weapon Systems with MK44 Bushmaster Cannons, 1,140 rounds of 30mm Target-Practice-Tracer (TP-T) ammunition, 4,020 rounds of 30mm High Explosive Incendiary with Tracer (HEI-T) ammunition, 60 rounds of 30mm inert dummy ammunition and two chaff systems, spare and repair parts, support equipment, publications and technical documentation, personnel training and training equipment, U.S. Government and contractor engineering, technical and logistics support services, and other related elements of logistical and program support.

(iv) Military Department: Navy (SAI)

(v) Prior Related Cases, if any: N/A

(vi) Sales Commissions, Fee etc., Paid, Offered, or Agreed to be Paid: None

(vii) Sensitivity of Technology Contained in the Defense Article Proposed to be Sold: None

(viii) Date Report Delivered to Congress: 16 March 2015

POLICY JUSTIFICATION

The Government of Jordan has requested a possible sale of two 35 Meter Coastal Patrol Boats with two MSI Defence Systems LTD SEAHAWK A2 DS30M-30mm Gun Weapon Systems with MK44 Bushmaster Cannons, 1,140 rounds of 30mm Target-Practice-Tracer (TP-T) ammunition, 4,020 rounds of 30mm High Explosive Incendiary with Tracer (HEI-T) ammunition, 60 rounds of 30mm inert dummy ammunition and two chaff systems, spare and repair parts, support equipment, publications and technical documentation, personnel training and training equipment, U.S. Government and contractor engineering, technical and logistics support services, and other related elements of logistical and program support. The estimated cost is $80 million.

This proposed sale will contribute to the foreign policy and national security of the United States by helping to improve the security of a partner which has been, and continues to be, an important force for political stability and economic progress in the Middle East. It is vital to the U.S. national interest that Jordan develops and maintains a strong and ready self-defense capability and enhances its ability to protect its territorial waters.

Jordan will have no difficulty absorbing these boats into its armed forces.

The proposed sale of this equipment and support will not alter the basic military balance in the region.

The principal contractor is undetermined at this time and will be determined during negotiations. There are no known offset agreements proposed in connection with this potential sale.

Implementation of this proposed sale will require the temporary assignment of approximately two U.S. Government or contractor representatives in Jordan on an intermittent basis over the life of the case.

There will be no adverse impact on U.S. defense readiness as a result of this proposed sale.

[FR Doc. 2015-06960 Filed 3-26-15; 8:45 am]

BILLING CODE 5001-06-P